DEPARTMENT OF TRANSPORTATION

Federal Aviation Administration

14 CFR Part 71

[Docket No. FAA-2024-2614; Airspace Docket No. 24-ASO-32]

RIN 2120-AA66

Amendment of Jet Routes J-83 and J-85, and Very High Frequency Omnidirectional Range (VOR) Federal Airways V-415 and V-605; Eastern United States

AGENCY: Federal Aviation Administration (FAA), DOT.

ACTION: Notice of proposed rulemaking (NPRM).

SUMMARY: This action proposes to amend Jet Routes J-83 and J-85, and Very High Frequency Omnidirectional Range (VOR) Federal Airways V-415 and V-605 in the eastern United States. These actions support the Spartanburg, SC (SPA), VOR/Tactical Air Navigation (VORTAC) relocation project.

DATES: Comments must be received on or before February 3, 2025.

ADDRESSES: Send comments identified by FAA Docket No. FAA-2024-2614 and Airspace Docket No. 24-ASO-32 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it amends the route structure to maintain the efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Jet routes are published in paragraph 2004 and domestic VOR Federal airways are published in paragraph 6010(a) of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service (ATS) routes, and reporting points.

Background

This action is proposed due to the Spartanburg, SC (SPA), VORTAC relocation project. The land where the Spartanburg VORTAC resides is being developed for other uses which requires its relocation. The Spartanburg VORTAC is planned to be relocated in October 2025 from its current location, “lat. 35°02′01.05″ N, long. 081°55′37.24″ W”, to 7.97 nautical miles (NM) south-southwest, “lat. 34°54′19.19″ N, long. 081°58′11.30″ W”. The facility identification and magnetic variation will remain unchanged. The route modifications proposed would realign the airway structure resulting from relocating the Spartanburg VORTAC.

The Proposal

The FAA is proposing an amendment to 14 CFR part 71 to amend Jet Routes J-83 and J-85, and VOR Federal Airways V-415 and V-605 to support the Spartanburg, SC (SPA), VORTAC relocation project. The proposed changes are described below.

J-83: J-83 currently extends between the Spartanburg, SC (SPA), VORTAC and the Dryer, OH (DJB), VOR/Distance Measuring Equipment (VOR/DME). The FAA proposes to remove the airway segment between the Spartanburg VORTAC and the Appleton, OH (APE), VORTAC as once the Spartanburg VORTAC is relocated, aircraft flying this segment of Jet Route J-83 would conflict with aircraft flying on the adjacent United States Area Navigation (RNAV) Route Q-149. As amended, the airway would extend between the Appleton VORTAC and the Dryer VOR/DME.

J-85: J-85 currently extends between the Spartanburg, SC (SPA), VORTAC and the Dryer, OH (DJB), VOR/DME. The FAA proposes to remove the airway segment between the Spartanburg VORTAC and the Charleston, WV (HVQ), VOR/DME as once the Spartanburg VORTAC is relocated, aircraft flying this segment of Jet Route J-85 would conflict with aircraft flying on the adjacent RNAV Route Q-147. As amended, the airway would extend between the Charleston VOR/DME and the Dryer VOR/DME.

V-415: V-415 currently extends between the Montgomery, AL (MGM), VORTAC and the intersection of the Montgomery VORTAC 029° and Gadsden, AL (GAD), VOR/DME 124° radials (HEFIN Fix); and between the intersection of the Rome, GA (RMG), VORTAC 060° and Foothills, SC (ODF), VOR/DME 258° radials (NELLO Fix) and the intersection of the Spartanburg, SC (SPA), VORTAC 101° and Charlotte, NC (CLT), VOR/DME 229° radials (LOCKS, SC, Fix). Due to the relocation of the Spartanburg VORTAC, the radials that make up the LOCKS Fix are changed to become the intersection of the Spartanburg VORTAC 088° True (T)/090° Magnetic (M) and Charlotte VOR/DME 227° T/232° M radials. The FAA proposes to update the route description of VOR Federal Airway V-415 with the new radials that define the LOCKS Fix. As amended, the airway would extend between the Montgomery VORTAC and the HEFIN Fix; and between the NELLO Fix and the intersection of the Spartanburg VORTAC 088° and Charlotte VOR/DME 227° radials.

V-605: V-605 currently extends between the Holston Mountain, TN (HMV), VORTAC and the Spartanburg, SC (SPA), VORTAC. In the route description of VOR Federal Airway V-605 between the Holston Mountain VORTAC and the Spartanburg VORTAC is a turn point listed as the intersection of the Holston Mountain 171° and Spartanburg VORTAC 358° radials (GENOD, SC, Fix). Due to the relocation of the Spartanburg VORTAC, the radials that make up the GENOD Fix are changed to become the intersection of the Holston Mountain VORTAC 171° T/175° M and the Spartanburg VORTAC 001° T/003° M radials. The FAA proposes to update the route description of VOR Federal Airway V-605 with the new radials that define the GENOD Fix. Additionally, the FAA changes the order of the navigational aids (NAVAID) to be listed from south to north to follow the FAA's current ATS route formatting requirements. As amended, the airway would extend between the Spartanburg VORTAC and the Holston Mountain VORTAC.

The NAVAID radials listed in the ATS descriptions in the proposed regulatory text of this NPRM are stated in degrees True north. The full descriptions of the above routes are set forth below in the proposed amendments to part 71.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-83 [Amended]

From Appleton, OH; to Dryer, OH.

* * * * *

J-85 [Amended]

From Charleston, WV; INT Charleston 357° and Dryer, OH, 172° radials; to Dryer.

* * * * *

Paragraph 6010(a) Domestic VOR Federal Airways.

* * * * *

V-415 [Amended]

From Montgomery, AL, to INT Montgomery 029° and Gadsden, AL, 124° radials. From INT Rome, GA, 060° and Foothills, SC, 258° radials; Foothills; Spartanburg, SC; to INT Spartanburg 088° T/090° M and Charlotte, NC, 227° T/232° M radials.

* * * * *

V-605 [Amended]

From Spartanburg, SC; INT Spartanburg 001° T/003° M and Holston Mountain, TN, 171° T/175° M radials; to Holston Mountain.

* * * * *

Issued in Washington, DC, on December 16, 2024.
Richard Lee Parks,
Manager (A); Rules and Regulations Group.

[FR Doc. 2024-30233 Filed 12-18-24; 8:45 am]

BILLING CODE 4910-13-P